DEPARTMENT OF STATE

[Public Notice 8504]

30-Day Notice of Proposed Information Collection: Request for Determination of Possible Loss of United States Citizenship

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to November 25, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Derek A. Rivers, Bureau of Consular Affairs, Overseas Citizens Services (CA/OCS/L), U.S. Department of State, SA-17, 10th Floor, Washington, DC 20522-1707, who may be reached at mailto: Ask-OCS-L-Public-Inquiries@state.gov.

SUPPLEMENTARY INFORMATION:

• Title of Information Collection: Request for Determination of Possible Loss of United States Citizenship

• OMB Control Number: No.1405-0178

• Type of Request: Extend

• Originating Office: Bureau of Consular Affairs, Overseas Citizens Services (CA/OCS)

• Form Number: DS-4079

• Respondents: United States Citizens

• Estimated Number of Respondents: 1,729

• Estimated Number of Responses: 1,729

• Average Hours Per Response: 15 minutes

• Total Estimated Burden: 432 hours

• Frequency: On Occasion

• Obligation to Respond: Required to obtain or retain benefits

We are soliciting public comments to permit the Department to:

• Evaluate whether the proposed information collection is necessary for the proper functions of the Department

• Evaluate the accuracy of our estimate of the time and cost burden for this proposed collection, including the validity of the methodology and assumptions used

• Enhance the quality, utility, and clarity of the information to be collected

• Minimize the reporting burden on those who are to respond, including the use of automated collection techniques or other forms of information technology

Please note that comments submitted in response to this Notice are public record. Before including any detailed personal information, you should be aware that your comments as submitted, including your personal information, will be available for public review.

Abstract of proposed collection: The purpose of the DS-4079 questionnaire is to determine current citizenship status and the possibility of loss of United States citizenship. The information provided assists consular officers and the Department of State in determining if the U.S. citizen has lost his or her nationality by voluntarily performing an expatriating act with the intention of relinquishing United States nationality. 8 U.S.C. 1501 grants authority to collect this information.

Methodology: The Bureau of Consular Affairs will post this form on Department of State Web sites to give respondents the opportunity to complete the form online, or print the form and fill it out manually and submit the form in person or by fax or mail.

Dated: October 1, 2013.
Michelle Bernier-Toth,
Managing Director, Bureau of Consular Affairs, Overseas Citizens Services, Department of State.

[FR Doc. 2013-25017 Filed 10-23-13; 8:45 am]

BILLING CODE 4710-06-P